DEPARTMENT OF COMMERCE

National Oceanic and Atmospheric Administration

[I.D. 042406D]

Endangered Species; File Nos. 1574 and 1575

AGENCY: National Marine Fisheries Service (NMFS), National Oceanic and Atmospheric Administration (NOAA), Commerce.

ACTION: Receipt of applications.

SUMMARY: NMFS has received applications from the following entities for permits for scientific research on shortnose sturgeon (Acipenser brevirostrum):

Dr. Frank A. Chapman, Department of Fisheries & Aquatic Sciences, University of Florida, 7922 NW 71st Street, Gainesville, Florida 32653 (File No. 1574); and

Earth Tech Northeast, Inc. (Joseph Falbo, Principal Investigator), One World Financial Center, 200 Liberty Street, 25th Floor, New York, New York 10281 (File No. 1575).

DATES: Written, telefaxed, or e-mail comments must be received on or before June 9, 2006.

ADDRESSES: The application and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9328; fax (978)281-9394; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1574 or File No. 1575.

FOR FURTHER INFORMATION CONTACT: Kelsey Abbott or Shane Guan, (301)713-2289.

SUPPLEMENTARY INFORMATION: The subject permits are requested under the authority of the Endangered Species Act of 1973, as amended (ESA; 16 U.S.C. 1531 et seq.) and the regulations governing the taking, importing, and exporting of endangered and threatened species (50 CFR 222-226).

File No. 1574: Dr. Frank A. Chapman requests a 5-year permit to authorize the continued maintenance and scientific research of domestic stocks of shortnose sturgeon presently held at the University of Florida. The research would use captive shortnose sturgeon to meet the following objectives: (1) identify physical, chemical, and biological parameters required to maintain optimal survival and growth of larvae and juvenile shortnose sturgeon; (2) describe embryonic development and metamorphosis; (3) monitor gonadal development of domestically raised shortnose sturgeon; (4) develop chemical assays to identify the sex and monitor the sexual development of shortnose sturgeon; and (5) understand the physiology of the sperm and egg to develop short and long-term storage of sperm as well as optimum fertilization techniques. This project would not require any takes from the wild or any release of domestic sturgeon into the wild.

File No. 1575: Earth Tech Northeast, Inc. requests a 5-year permit to document the usage of the existing Tappan Zee Bridge piers by shortnose sturgeon. The objectives of this research would be to document: (1) the use of the existing Tappan Zee Bridge structure as significant habitat by fisheries resources; and (2) the relative abundance and spatial and temporal patterns of shortnose sturgeon, if these fish are present. The applicants propose to use anchored gill nets and traps to capture a maximum of 120 juvenile and adult shortnose sturgeon for visual examination, measurement, and release. The proposed research would occur at six stations alongside and under the existing Tappan Zee Bridge and at three reference locations within 700 feet north of the existing bridge.

Dated: May 4, 2006.
Stephen L. Leathery,
Chief, Permits, Conservation and Education Division, Office of Protected Resources, National Marine Fisheries Service.

[FR Doc. E6-7149 Filed 5-9-06; 8:45 am]

BILLING CODE 3510-22-S